DEPARTMENT OF HEALTH AND HUMAN SERVICES

Agency for Toxic Substances and Disease Registry

Solicitation of Volunteers To Serve as Special Consultants on the Community and Tribal Subcommittee of the ATSDR Board of Scientific Counselors

AGENCY: Agency for Toxic Substances and Disease Registry (ATSDR), Department of Health and Human Services (HHS).

ACTION: Notice.

This notice announces ATSDR's need for special consultants to provide citizens' input on the Community and Tribal Subcommittee (CTS) of ATSDR's Board of Scientific Counselors (BSC).

DATES: Applications should be completed and returned by Friday, November 17, 2000.

Background: The CTS provides the BSC with input, recommendations, and advice on ATSDR's community/tribal community involvement practices, programs, and policies from community/tribal members who live near hazardous waste sites or are otherwise affected by hazardous substances in the community environment. The subcommittee was established, at the request of the Assistant Administrator, ATSDR, to provide the agency, through its Board of Scientific Counselors, with a formal vehicle for citizen input.

FOR FURTHER INFORMATION CONTACT: To express interest in serving as a special consultant and obtain additional information, contact: Sandee Coulberson, Designated Federal Official, CTS, ATSDR (E-56), 1600 Clifton Road, NE, Atlanta, GA 30033 (404) 639-6002 (Direct Line) Toll-free 1-888-422-8737.

SUPPLEMENTARY INFORMATION: ATSDR conducts public health-related activities at hazardous waste sites and releases, pursuant to the Comprehensive Environmental Response, Compensation, and Liability Act (CERCLA or Superfund) (42 U.S.C. 9601 et seq.). ATSDR established a BSC which is chartered under the Federal Advisory Committee Act (5 U.S.C. app.). In 1994, the chair of the BSC, ATSDR, appointed three community/tribal representatives as consultants to ensure that its deliberations included the views of community and tribal members who live around Superfund and other hazardous waste sites and are representatives of groups that work at local, regional, or national locations with these affected communities. To supplement the work of these consultants, nine additional community and tribal representatives were added. Four members of the BSC serve on this Subcommittee, one of which was appointed as chair.

The Community Tribal Subcommittee's objective is to provide the BSC, ATSDR, with the views and recommendations of community and tribal representatives on ATSDR's community involvement programs, practices, policies, and other relevant issues impacting communities and tribes who live near Superfund and hazardous waste sites. The Subcommittee will review ATSDR's community involvement programs, and policies; provide advice, findings, and recommendations to the Board on these issues; and bring broad-based community and tribal involvement issues to the attention of the Board of Scientific Counselors.

The Subcommittee will present findings, advice, and recommendations to the full Board. The BSC will discuss and review reports of the Subcommittee and may forward recommendations to ATSDR for action. The Community/Tribal Subcommittee will periodically meet and/or hold conference calls.

A group consisting of special consultants, CTS Chair and the DFO will review the applications and develop a short list to be recommended for consideration. The Agency, in consultation with the BSC chair, will then select the four community representatives to serve as special consultants to the CTS, with special consideration given to the recommended slate. The special consultants are not members of the CTS, and therefore, do not have voting privileges.

Accordingly, any person who lives in a community affected by an NPL or other hazardous waste site, or is a representative of a group that works at local, regional, or national locations with these communities, who wishes to be considered for serving as a special consultant on this Subcommittee should write or call the ATSDR contact person listed above to express interest and obtain additional information.

The Director, Management Analysis and Services Office, has been delegated the authority to sign Federal Register Notices pertaining to announcements of meetings and other committee management activities, for both the Centers for Disease Control and Prevention and the Agency for Toxic Substances and Disease Registry

Dated: October 17, 2000.
Carolyn J. Russell,
Director, Management Analysis and Services Office, Centers for Disease Control and Prevention.

Application

Community and Tribal Subcommittee, Agency for Toxic Substances and Disease Registry (ATSDR), October, 2000

Please fill out this form as legibly as possible to ensure that photocopies of it are readable. Applications must be received by Friday, November 17, 2000. Please send to:

Sandee Coulberson, Designated Federal Official, CTS, ATSDR (E-56), 1600 Clifton Road, NE, Atlanta, GA 30033, Phone: (404) 639-6002 (Direct Line), Toll-free 1-888-422-8737, Fax: (404) 639-4699

Name:

Street Address:

City, State, Zip:

Telephone:

Fax:

E-mail:

Employment and employer(s) for last five years:

Please check the corresponding box for your response to the following questions; please keep any written responses brief.

(1) Do you live in a community or on a reservation that contains a site contaminated with toxic substances or are you a member of an organization that works on environmental health/toxic substance issues with such affected communities/tribes? Check all that apply

__yes, live in such a community/reservation

__yes, member of such an organization

__no

If you checked no, please skip to question # 9.

ATSDR Community and Tribal Subcommittee Application, continued:

(2) What type of site is it?

__National Priorities List (Superfund NPL)

__Department of Defense

__Not sure/don't know

__Department of Energy

__Department of Defense

__State

__Other

(3) What is the status of site cleanup?

__Cleanup underway

__Cleanup completed

__No work done

__Not sure/don't know

(4) How would you characterize your community/tribe?

__Rural

__Suburban

__Urban

__Tribal Lands

__Not sure/don't know

(5) How would you characterize the racial/ethnic makeup of your community/tribe?

__White

__Asian

__African-American

__Native American

__Hispanic

__Mixed/no group predominate

__Not sure/don't know

(6) How would you characterize the economic status of your community/tribe?

__Lower income

__Middle income

__Upper income

__Not sure/don't know

(7) Do you believe your personal/family health has been harmed due to exposure to toxic substances in the environment?

__Yes

__Possibly

__No

(7a) If you are a trial member, is contamination of traditional food supply thought to be a problem?

__ Yes __ Possibly __ No

ATSDR Community and Tribal Subcommittee Application, continued:

(8) Are you a member of a community/tribal organization focused on the site?

__ Yes __ No

(8a) If yes, please describe

(9) Are you familiar with the Agency for Toxic Substances and Disease Registry (ATSDR)?

__ Yes __ No

(10) Have you either sought assistance from, or previously been involved with ATSDR?

__ Yes __ No

(11) Has ATSDR sponsored a health assessment or health study in your community?

__ Yes __ No __ Not sure/don't know

(12) Have you attended other national or regional ATSDR meetings in the last 5 years?

__ Yes __ No

(13) Are you a member of an organization—other than the one you may have noted in question 8—focused on toxic substances/environmental health?

__ Yes __ No

(13a) If yes, what is the scope of the organization?

__ Local __ Regional __ National

(13b) Please describe the organization

(14) How many years have you been involved in toxic substance/environmental health issues?

__ Years

(15) How many hours per month on average can you make available for telephone calls, periodic meetings, and review of materials?

__ Hours per month

(16) Have you in the past or are you now participating in an advisory group similar in structure to the Community Tribal Subcommittee?

__ Yes __ No

(16a) If yes, please describe the group and your role

(17) QUALIFICATIONS/BACKGROUND: Please briefly note your knowledge of/experience with toxic substance/environmental health issues. List relevant self-education/research, workshops attended, and/or formal training.

(18) CURRENT ISSUES: What are your views on ATSDR's current approach to working with communities/tribes?

(19) EXPECTATIONS: What type of input, recommendations, and advice do you envision the Subcommittee providing, and what type of outreach would you intend to do in order to formulate your recommendations to the Board of Scientific Counselors?

[FR Doc. 00-27372 Filed 10-24-00; 8:45 am]

BILLING CODE 4163-70-P